DEPARTMENT OF AGRICULTURE

Forest Service

Information Collection; Request for Comments; Annual Wildfire Summary Report

AGENCY: Forest Service, USDA.

ACTION: Notice.

SUMMARY: In accordance with the Paperwork Reduction Act of 1995, the Forest Service announces its intention to reinstate, without change, a previously approved information collection, for which approval has expired. The collected information enables the Forest Service to provide timely, substantive information to Congress about the effectiveness of State and local fire fighting agencies, when the agencies request annual funding for the Forest Service State and Private Forestry Cooperative Fire Program. This program supplements the funding of State and local fire fighting efforts.

DATES: Comments must be received in writing on or before April 12, 2004.

ADDRESSES: Comments concerning this notice should be addressed to Jim Shell, Fire and Aviation Management, MAIL STOP 1107, State and Private Forestry, Forest Service, USDA, 1400 Independence Avenue SW., Washington, DC 20250.

Comments also may be submitted via facsimile to (202) 205-1494 or by e-mail to jshell@fs.fed.us.

The public may inspect comments received at the Office of the Deputy Chief, State and Private Forestry, Forest Service, USDA, 2nd Floor SW., Yates Building, 1400 Independence Avenue SW., Washington DC. Visitors are urged to call ahead to (202) 205-1494 to facilitate entrance into the building.

FOR FURTHER INFORMATION CONTACT: Jim Shell, Fire and Aviation Management, State and Private Forestry, (202) 205-1494. Individuals who use telecommunication devices for the deaf (TDD) may call the Federal Relay Service (FRS) at 1-800-877-8339 twenty-four hours a day, every day of the year, including holidays.

SUPPLEMENTARY INFORMATION:

Background

The Cooperative Forestry Assistance Act of 1978 requires the Forest Service to collect information about wildfire suppression efforts by State and local fire fighting agencies to ensure that Congress has adequate information to implement its oversight responsibilities and to provide accountability for expenditures and activities under the Act. The Forest Service works cooperatively with State and local fire fighting agencies and provides supplemental funding to these agencies to support their fire suppression efforts through the Forest Service State and Private Forestry Cooperative Fire Program. State and local fire agencies are the first line of defense against fires that threaten non-Federal property and resources and that might spread to Federal lands.

State Foresters use the form, FS-3100-8, Annual Wildfire Summary Report, to compile information from their State and local fire agencies in response to a request for this information from the Forest Service.

The Forest Service would be unable to assess the effectiveness of the State and Private Forestry Cooperative Fire Program if the information provided on form, FS-3100-8, were not collected.

Description of Information Collection

The following describes the information collection to be retained.

Title: FS-3100-8, Annual Wildfire Summary Report.

OMB Number: 0596-0025.

Date of Expiration: May 31, 2003.

Type of Request: Reinstatement.

Abstract: Forest Service State and Private Forestry Cooperative Fire Program managers will evaluate the collected information to determine whether Cooperative Fire program funds provided to the State and local fire fighting agencies by the Forest Service have been used to improve their fire suppression capabilities. The Forest Service will share the results of the data with Congress when requesting annual funding for the Program. The collected information also will enable the Forest Service to share with the public the importance and value of the State and Private Forestry Cooperative Fire Program.

Forest Service employees will not collect the information directly, but will request the information from State Foresters, who will collect the information from their own State fire fighting agencies, and from local fire fighting agencies, such as volunteer fire departments. The information collected for the Annual Wildfire Summary Report will include the number of acres protected; the number of fires to which the State or local fire fighting agencies responded within the fiscal year; the sizes of the fires in acres; and the causes of the fires, such as lightening, campfire, or arson. Data gathered in this information collection are not available from other sources.

Estimate of Annual Burden: 30 minutes.

Type of Respondents: State Foresters.

Estimated Annual Number of Respondents: 50.

Estimated Annual Number of Responses per Respondent: 1.

Estimated Total Annual Burden on Respondents: 25 hours.

Comment Is Invited

Comment is invited on: (a) Whether the proposed collection of information is necessary for the stated purposes and the proper performance of the functions of the agency, including whether the information will have practical or scientific utility; (b) the accuracy of the agency's estimate of the burden of the proposed collection of information, including the validity of the methodology and assumptions used; (c) ways to enhance the quality, utility, and clarity of the information to be collected; and (d) ways to minimize the burden of the collection of information on respondents, including the use of automated, electronic, mechanical, or other technological collection techniques or other forms of information technology.

Use of Comments

All comments received in response to this notice, including names and addresses when provided, will become a matter of public record and will be available for public inspection and copying. Comments will be summarized and included in the request for Office of Management and Budget approval.

Dated: February 4, 2004.
Robin L. Thompson,
Acting Deputy Chief, State and Private Forestry.

[FR Doc. 04-2843 Filed 2-9-04; 8:45 am]

BILLING CODE 3410-11-P